FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 4, 2013.

A. Federal Reserve Bank of Atlanta (Chapelle Davis, Assistant Vice President) 1000 Peachtree Street, NE., Atlanta, Georgia 30309:

1. William Henry Carr, Enterprise, Alabama, and Jerry Newman Carr, Cornelius, North Carolina; to acquire voting shares of Enterprise Capital Corporation, Inc., and thereby indirectly acquire voting shares of The Citizens Bank, both in Enterprise, Alabama.

B. Federal Reserve Bank of Chicago (Colette A. Fried, Assistant Vice President) 230 South LaSalle Street, Chicago, Illinois 60690-1414:

1. The Sharon L. Hearns Irrevocable Family Trust; James E. Hearns, as trustee of the Sharon L. Hearns Irrevocable Family Trust; James E. Hearns and Sharon L. Hearns, all of Naples, Florida, Keith E. Hearns and Natalie Guetierrez-Hearns, both of New Lenox, Illinois, and Gregory F. Steil, Hinsdale, Illinois, together as a group acting in concert, to acquire voting shares of LWCBancorp, Inc., and thereby indirectly acquire voting shares of LincolnWay Community Bank, both in New Lenox, Illinois.

Board of Governors of the Federal Reserve System, March 15, 2013.
Margaret McCloskey Shanks,
Deputy Secretary of the Board.

[FR Doc. 2013-06370 Filed 3-19-13; 8:45 am]

BILLING CODE 6210-01-P